SMALL BUSINESS ADMINISTRATION

[Declaration of Disaster #3621]

State of Kansas

Wyandotte County and the contiguous counties of Johnson and Leavenworth in the State of Kansas; and Clay, Jackson, and Platte in the State of Missouri constitute a disaster area due to severe thunderstorms and flash flooding that occurred on August 27, 2004. Applications for loans for physical damage as a result of this disaster may be filed until the close of business on November 8, 2004 and for economic injury until the close of business on June 9, 2005 at the address listed below or other locally announced locations: Small Business Administration, Disaster Area 3 Office, 14925 Kingsport Road, Fort Worth, TX 76155-2243.

The interest rates are:

| Percent
For Physical Damage:
Homeowners with credit available elsewhere | 6.375
Homeowners without credit available elsewhere | 3.187
Businesses with credit available elsewhere | 5.800
Businesses and non-profit organizations without credit available elsewhere | 2.900
Others (including non-profit organizations) with credit available elsewhere | 4.875
For Economic Injury:
Businesses and small agricultural cooperatives without credit available elsewhere | 2.900

The number assigned to this disaster for physical damage is 362106 for Kansas and 362206 for Missouri. The number assigned to this disaster for economic injury is 9ZU200 for Kansas and 9ZU300 for Missouri.

(Catalog of Federal Domestic Assistance Program Nos. 59002 and 59008.)

Dated: September 9, 2004.
Hector V. Barreto,
Administrator.

[FR Doc. 04-20819 Filed 9-15-04; 8:45 am]

BILLING CODE 8025-01-P